FEDERAL COMMUNICATIONS COMMISSION

47 CFR Parts 0, 1, 15, 20, and 54

[GN Docket No. 16-46; DA 17-664]

Connect2HealthFCC Task Force Announces Upcoming Virtual Listening Sessions on Broadband Health Divide

AGENCY: Federal Communications Commission.

ACTION: Extension of comment deadline.

SUMMARY: In this document, the Connect2HealthFCC Task Force (Task Force) of the Federal Communications Commission (Commission), extends the deadline for interested parties to submit comments and reply comments in response to the notice issued on April 24, 2017, on FCC Seeks Comment and Data on Actions to Accelerate Adoption and Accessibility of Broadband-Enabled Health Care Solutions and Advanced Technologies (GN Docket No. 16-46; FCC 17-46). In addition, the Task Force announces that it will be convening several virtual listening sessions to more efficiently facilitate additional input on the issues raised in the aforementioned notice.

DATES: Submit comments and reply comment on or before September 29, 2017.

ADDRESSES: You may submit comments and reply comments, identified by GN Docket No. 16-46, by any of the following methods:

• Electronic Filers: Comments may be filed electronically using the Internet by accessing the ECFS: http://apps.fcc.gov/ecfs/ (click the “submit a filing” tab). Filers should follow the instructions provided on the Web site for submitting comments. For ECFS filers, in completing the transmittal screen, filers should include their full name, U.S. Postal service mailing address, and the applicable docket number: GN Docket No. 16-46.

• Paper Filers: Parties who choose to file by paper must file an original and one copy of each filing. Filings can be sent by hand or messenger delivery, by commercial overnight courier, or by first-class or overnight U.S. Postal Service mail. All filings must be addressed to the Commission's Secretary, Marlene H. Dortch, Office of the Secretary, Federal Communications Commission. All hand-delivered or messenger-delivered paper filings for the Commission's Secretary must be delivered to FCC Headquarters at 445 12th St. SW., Room TW-A325, Washington, DC 20554. All hand deliveries must be held together with rubber bands or fasteners. Any envelopes must be disposed of before entering the building. The filing hours are 8:00 a.m. to 7:00 p.m. Commercial overnight mail (other than U.S. Postal Service Express Mail and Priority Mail) must be sent to 9300 East Hampton Drive, Capitol Heights, MD 20743. U.S. Postal Service first-class mail, Express Mail, and Priority Mail must be addressed to 445 12th Street SW., Washington, DC 20554.

Additional Filing Instruction: To the extent feasible, parties should email a copy of their comments to the Task Force's email box, at connect2health@fcc.gov. In the email, please insert “Comments in GN Docket No. 16-46” in the subject line. Copies of all filings will be available in GN Docket No. 16-46 through ECFS and are also available for public inspection and copying during regular business hours at the FCC Reference Information Center, Portals II, 445 12th St. SW., Room CY-A257, Washington, DC 20554, telephone (202) 418-0270. Documents will be available electronically in ASCII, Microsoft Word, and/or Adobe Acrobat.

People with Disabilities: To request materials in accessible formats for people with disabilities (braille, large print, electronic files, audio format), send an email to fcc504@fcc.gov or call the Consumer and Governmental Affairs Bureau at 202-418-0530 (voice) or 202-418-0432 (TTY). Contact the FCC to request reasonable accommodations for filing comments (accessible format documents, sign language interpreters, CART, etc.) by email at: fcc504@fcc.gov; phone: 202-418-0530 or TTY: 202-418-0432.

FOR FURTHER INFORMATION CONTACT: Ben Bartolome, Special Counsel, Connect2HealthFCC Task Force, at (770) 935-3383, or via email at Ben.Bartolome@fcc.gov (inserting “Question re GN Docket No 16-46” in the subject line).

SUPPLEMENTARY INFORMATION: This is a summary of the Commission's document, DA 17-664, released on July 21, 2017. The complete text of this document is available on the Internet at the Commission's Web site, at https://www.fcc.gov/document/c2h-hold-listening-sessions-bridging-broadband-health-divide. The full text is also available for public inspection and copying from 8:00 a.m. to 4:30 p.m. Eastern Time (ET) Monday through Thursday or from 8:00 a.m. to 11:30 a.m. on Fridays in the FCC Reference Information Center, 445 12th Street SW., Room CY-A257, Washington, DC 20554 (Telephone: 202-418-0270; TTY: 202-418-2555).

In document DA 17-664, the Federal Communications Commission's Connect2Health Task Force announces that it will convene several virtual listening sessions over several weeks (i.e., during the week of August 7, and also the weeks of September 11, 18, and 25, 2017) to more efficiently facilitate targeted input on broadband health issues (including on the rural/urban gap and other digital divide issues) from non-traditional stakeholders and those outside the Washington, DC area. The instructions for participating in these sessions are provided in the notice. This effort specifically relates to the Task Force's development of recommendations on critical regulatory, policy, technical, and infrastructure issues concerning the emerging broadband-enabled health and care ecosystem described in the April 24, 2017 document FCC 17-46, issued in GN Docket No. 16-46 (FCC Seeks Comment and Data on Actions to Accelerate Adoption and Accessibility of Broadband-Enabled Health Care Solutions and Advanced Technologies).

This document also announces that the formal comment period for GN Docket No. 16-46 will remain open until September 29, 2017, to give interested parties an opportunity to file additional comments and information following the completion of the aforementioned virtual listening sessions (noting that the initial deadlines for filing comments and reply comments in response to the notice in GN Docket No. 16-46 were May 24, 2017, and June 8, 2017, respectively). Further, parties have also expressed interest in submitting comments and suggestions for enhancements related to the Mapping Broadband Health in America platform (available on the Commission's Web site at www.fcc.gov/health/maps) released on June 8, 2017; as such, this extension will facilitate such filings in GN Docket No. 16-46.

Federal Communications Commission.
Ryan Yates,
Attorney Advisor, Office of the General Counsel.

[FR Doc. 2017-17731 Filed 8-21-17; 8:45 am]

BILLING CODE 6712-01-P